DEPARTMENT OF LABOR

[Docket No. OSHA-2022-0002]

Occupational Safety and Health Administration National Advisory Committee on Occupational Safety and Health (NACOSH): Notice of Meeting

AGENCY: Occupational Safety and Health Administration (OSHA), Labor.

ACTION: Notice of NACOSH meeting.

SUMMARY: The National Advisory Committee on Occupational Safety and Health (NACOSH) will meet February 22, 2022, by teleconference and WebEx. In conjunction with the committee meeting, the NACOSH Heat Injury and Illness Prevention Work Group will hold an initial meeting on February 25, 2022.

DATES:

NACOSH meeting: NACOSH will meet from 1:00 p.m. to 5:00 p.m., ET, Tuesday, February 22, 2022.

NACOSH Work Group meeting: The NACOSH Heat Injury and Illness Prevention Work Group will meet from 1:00 p.m. to 3:00 p.m., ET, Friday, February 25, 2022.

ADDRESSES:

Submission of comments and requests to speak at the NACOSH meeting: Submit comments and requests to speak at the NACOSH meeting by February 15, 2022, identified by the docket number for this Federal Register notice (Docket No. OSHA-2022-0002), using the following method:

Electronically: Comments and request to speak, including attachments, must be submitted electronically at: http://www.regulations.gov, the Federal eRulemaking Portal. Follow the online instructions for submitting comments.

Requests for special accommodations: Submit requests for special accommodations for the NACOSH meeting by February 15, 2022, to Ms. Carla Marcellus, Directorate of Standards and Guidance, OSHA, U.S. Department of Labor; telephone: (202) 693-1865; email: marcellus.carla@dol.gov.

Instructions: All submissions for the NACOSH meeting must include the agency name and the OSHA docket number for this Federal Register notice (Docket No. OSHA-2022-0002). OSHA will place comments and requests to speak, including personal information, in the public docket, which may be available online. Therefore, OSHA cautions interested parties about submitting personal information such as Social Security numbers and birthdates.

Docket: To read or download documents in the public docket for the NACOSH meeting, go to http://www.regulations.gov. All documents in the public docket are listed in the index; however, some documents (e.g., copyrighted material) are not publicly available to read or download through http://www.regulations.gov. All submissions, including copyrighted material, are available for inspection through the OSHA Docket Office. Contact the OSHA Docket Office at (202) 693-2350 (TTY (877) 889-5627) for assistance in locating docket submissions.

Participation in the NACOSH Work Group meeting: Members of the public may attend the NACOSH Work Group meeting. However, any participation by the public will be in listen-only mode. OSHA is not receiving public comments or requests to speak at the Work Group meeting.

FOR FURTHER INFORMATION CONTACT:

For press inquiries: Mr. Frank Meilinger, Director, OSHA Office of Communications, U.S. Department of Labor; telephone: (202) 693-1999; email: meilinger.francis2@dol.gov.

For general information about NACOSH: Ms. Lisa Long, Acting Deputy Director, Directorate of Standards and Guidance, OSHA, U.S. Department of Labor; telephone: (202) 693-2409; email: long.lisa@dol.gov.

Telecommunication requirements: For additional information about the telecommunication requirements for the meeting, please contact Ms. Carla Marcellus, Directorate of Standards and Guidance, OSHA, U.S. Department of Labor; telephone: (202) 693-1865; email: marcellus.carla@dol.gov.

For copies of this Federal Register Notice: Electronic copies of this Federal Register notice are available at http://www.regulations.gov. This notice, as well as news releases and other relevant information, are also available at OSHA's web page at www.osha.gov.

SUPPLEMENTARY INFORMATION:

I. Background

NACOSH was established by Section 7(a) of the Occupational Safety and Health Act of 1970 (OSH Act) (29 U.S.C. 651, 656) to advise, consult with, and make recommendations to the Secretary of Labor and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR 1912.5 and 29 CFR part 1912a).

The establishment of subcommittees and subgroups, such as the NACOSH Heat Injury and Illness Prevention Work Group, is contemplated by both the FACA's implementing regulations and OSHA's regulations on NACOSH (see, e.g., 41 CFR 102-3.135; 29 CFR 1912a.13). The NACOSH Work Group will operate in accordance with the FACA and these regulations.

II. Meeting Information

NACOSH meeting: Attendance at the NACOSH meeting will be by teleconference and WebEx only. The teleconference dial-in number and passcode are as follows: Dial-in number: 1-800-779-1534; Passcode: 2969166 and the WebEx link is: https://usdolee.webex.com/usdolee/onstage/g.php?MTID=e166e7a8eecd74858afbb6afca6a8d00a and the meeting password is: Welcome!24. The tentative agenda will include agency updates from OSHA and the National Institute for Occupational Safety and Health (NIOSH), a discussion of OSHA's work on heat illness prevention, and a discussion on risk-based safety.

NACOSH Work Group Meeting: The NACOSH Heat Injury and Illness Prevention Work Group will also be by teleconference and WebEx only and is open to the public. Members of the public will be able to observe and will be kept in listen-only mode. The teleconference dial-in number and passcode are as follows: Dial-in number: 1-800-779-8290; Passcode: 8130648 and the WebEx link is: https://usdolee.webex.com/usdolee/onstage/g.php?MTID=e9dbee080b62061cecf30e01d32135c2e and the meeting password is: Welcome!24.

The Work Group was established to help NACOSH respond to OSHA's request to provide recommendations on the agency's heat injury and illness prevention guidance and rulemaking activities. The Work Group will evaluate OSHA's heat illness and prevention guidance materials, develop recommendations for guidance materials, evaluate stakeholder input, and develop recommendations on potential elements of a proposed heat injury and illness prevention standard. It will then present its written findings and proposed recommendations to the full NACOSH committee for consideration. After deliberations, NACOSH will submit its recommendations to the Secretary of Labor.

Authority and Signature

Douglas L. Parker, Assistant Secretary of Labor for Occupational Safety and Health, authorized the preparation of this notice under the authority granted by 29 U.S.C. 655(b)(1) and 656(b), 5 U.S.C. app. 2, 29 CFR parts 1912 and 1912a, and Secretary of Labor's Order No. 8-2020 (85 FR 58393).

Signed at Washington, DC, on January 24, 2022.
Douglas L. Parker,
Assistant Secretary of Labor for Occupational Safety and Health.

[FR Doc. 2022-02379 Filed 2-3-22; 8:45 am]

BILLING CODE 4510-26-P